DEPARTMENT OF TRANSPORTATION

Federal Aviation Administration

14 CFR Part 39

[Docket No. FAA-2004-19177; Directorate Identifier 2002-NM-202-AD]

RIN 2120-AA64

Airworthiness Directives; Dassault Model Falcon 10 Series Airplanes

AGENCY: Federal Aviation Administration (FAA), DOT.

ACTION: Notice of proposed rulemaking (NPRM).

SUMMARY: The FAA proposes to adopt a new airworthiness directive (AD) for all Dassault Model Falcon 10 series airplanes. This proposed AD would require a temporary change to the airplane flight manual to provide procedures to the flight crew for touchdown using the main landing gear to avoid a three-point landing. This proposed AD also would require repetitive inspections of the piston rod of the drag strut actuator of the nose landing gear (NLG) for cracks, which would terminate the AFM revision, and corrective actions if necessary. In addition, this proposed AD provides for a terminating modification, which would end the repetitive inspections. This proposed AD is prompted by reports of failure of the piston rod of the drag strut actuator of the NLG. The cause of such failure has been attributed to fatigue cracking caused by corrosion in the piston rod of the drag strut actuator. We are proposing this AD to prevent cracking and/or fracture of the piston rod of the drag strut actuator of the NLG, which could result in a gear-up landing, structural damage, and possible injury to passengers and crew.

DATES: We must receive comments on this proposed AD by October 28, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Dassault Falcon Jet, P.O. Box 2000, South Hackensack, New Jersey 07606.

You can examine the contents of this AD docket on the Internet at http://dms.dot.gov, or at the Docket Management Facility, U.S. Department of Transportation, 400 Seventh Street SW., Room PL-401, on the plaza level of the Nassif Building, Washington, DC.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-19177; Directorate Identifier 2002-NM-202-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on all Dassault Model Falcon 10 series airplanes. The DGAC advises that there have been reports of failure of the piston rod of the drag strut actuator of the nose landing gear (NLG). The cause of such failure has been attributed to fatigue cracking caused by corrosion in the piston rod of the drag strut actuator. That cracking can cause the piston rod to break and the NLG to retract during a three-point landing. These conditions, if not found and fixed, could result in a gear-up landing, structural damage, and possible injury to passengers and crew.

Relevant Service Information

Dassault has issued Temporary Change (TC) No. 24 to the Falcon 10 Airplane Flight Manual. This TC provides procedures for touchdown using the main landing gear to avoid a three-point landing.

Dassault has issued Service Bulletin F10-294, dated March 20, 2002, which describes procedures for an ultrasonic inspection of the piston rod of the drag strut actuator of the nose landing gear (NLG) for cracks. The service bulletin recommends sending the actuator back to the component repair agent for replacing the piston rod if any crack is found.

Dassault has also issued Service Bulletin F10-297, dated October 1, 2003, which describes procedures for replacing the drag strut actuator with a new, improved drag strut actuator. The service bulletin references Messier-Dowty Service Bulletin 747721-32-057, dated February 5, 2003, as an additional source of service information for modifying the actuator piston rod. Service Bulletin F10-297 also recommends prior or concurrent accomplishment of Messier-Hispano-Bugatti (MHB) Service Bulletin 511-32-26, dated November 9, 1979. The MHB service bulletin describes procedures for modifying the drag strut actuator.

Accomplishing the actions specified in the Dassault service information is intended to adequately address the unsafe condition. The DGAC mandated the service information and issued French airworthiness directive 2002-137(B), dated March 20, 2002, to ensure the continued airworthiness of these airplanes in France.

FAA's Determination and Requirements of the Proposed AD

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. We have examined the DGACs findings, evaluated all pertinent information, and determined that AD action is necessary for products of this type design that are certificated for operation in the United States.

Therefore, we are proposing this AD, which would require a temporary change to the airplane flight manual to provide procedures to the flight crew for touchdown using the main landing gear to avoid a three-point landing. The proposed AD also would require repetitive inspections of the piston rod of the drag strut actuator of the NLG for cracks, which would terminate the AFM revision, and corrective actions if necessary. In addition, the proposed AD provides for a terminating modification, which would end the repetitive inspections. The proposed AD would require you to use the Dassault service information described previously to perform these actions, except as discussed under “Differences Among the Proposed AD, French Airworthiness Directive, and Service Bulletins.”

Differences Among the Proposed AD, French Airworthiness Directive, and Service Bulletins

For the AFM revision, the French airworthiness directive requires compliance before the next flight. This proposed AD would require compliance within 5 days after the effective date of this AD. In developing an appropriate compliance time for this proposed AD, we considered the DGAC's recommendation, as well as the degree of urgency associated with the subject unsafe condition. In light of these factors, we find that a 5-day compliance time represents an appropriate interval of time for affected airplanes to continue to operate without compromising safety.

This proposed AD allows operators to do repetitive inspections instead of doing the terminating modification, unless cracking is found. In making these determinations, the FAA considers that, in the case of this AD, long-term continued operational safety is adequately ensured by doing the repetitive inspections to find cracking before it represents a hazard to the airplane, and by modifying the drag strut actuator if cracking is found.

Service Bulletin F10-294 recommends returning the drag strut actuator to the component repair agent for replacement if a crack is found; however, the proposed AD requires doing the terminating modification.

Service Bulletins F10-294 and F10-297 recommend submitting certain inspection results to the manufacturer. The proposed AD would not require those actions.

These differences have been coordinated with the DGAC.

Costs of Compliance

This proposed AD would affect about 154 airplanes of U.S. registry.

The proposed AFM revision would take about 1 work hour per airplane, at an average labor rate of $65 per work hour. Based on these figures, the estimated cost of the AFM revision proposed by this AD for U.S. operators is $10,010, or $65 per airplane.

The proposed inspection would take about 1 work hour per airplane, at an average labor rate of $65 per work hour. Based on these figures, the estimated cost of the inspection proposed by this AD for U.S. operators is $10,010, or $65 per airplane, per inspection cycle.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Dassault Aviation [Formerly Avions Marcel Dassault-Breguet Aviation (AMD/BA)]: Docket No. FAA-2004-19177; Directorate Identifier 2002-NM-202-AD.

Comments Due Date

(a) The Federal Aviation Administration must receive comments on this AD action by October 28, 2004.

Affected ADs

(b) None.

Applicability

(c) This AD applies to all Model Falcon 10 series airplanes, certificated in any category.

Unsafe Condition

(d) This AD was prompted by reports of failure of the piston rod of the drag strut actuator of the NLG. We are issuing this AD to prevent cracking and/or fracture of the piston rod of the drag strut actuator of the NLG, which could result in a gear-up landing, structural damage, and possible injury to passengers and crew.

Compliance

(e) You are responsible for having the actions required by this AD performed within the compliance times specified, unless the actions have already been done.

Airplane Flight Manual (AFM) Revision

(f) Within 5 days after the effective date of this AD: Revise the Limitations Section of the Falcon 10 AFM by incorporating Dassault Temporary Change (TC) No. 24 into the AFM. That TC provides procedures to the flight crew for touchdown using the main landing gear to avoid a three-point landing. Thereafter, operate the airplane in accordance with the limitations specified in the AFM revision.

(g) When the information in TC No. 24 has been included in general revisions of the AFM, the TC may be removed from the AFM, provided the relevant information in the general revision is identical to that in TC No. 24.

Repetitive Inspections

(h) Within 7 months after the effective date of this AD: Do an ultrasonic inspection of the piston rod of the drag strut actuator of the NLG for cracks in accordance with Dassault Service Bulletin F10-294, dated March 20, 2002. After the initial inspection has been done, the TC required by paragraph (f) of this AD may be removed from the AFM.

(1) If any crack is found, before further flight, do the terminating modification specified in paragraph (i) of this AD.

(2) If no crack is found, repeat the inspection thereafter at intervals not to exceed 700 landings on the drag strut actuator.

Terminating Modification

(i) Accomplishment of the modification of the drag strut actuator in accordance with Dassault Service Bulletin F10-297, dated October 1, 2003, and prior or concurrent accomplishment of the related modification in accordance with Messier-Hispano-Bugatti Service Bulletin 511-32-26, dated November 9, 1979, ends the repetitive inspections required by paragraph (h)(2) of this AD.

Additional Source of Service Information

(j) Messier-Dowty Service Bulletin 747721-32-057, dated February 5, 2003, is referenced in Dassault Service Bulletin F10-294 as an additional source of service information for replacing the drag strut actuator rod.

Actions Not Required

(k) Dassault Service Bulletin F10-294 recommends returning the drag strut actuator to the component repair agent for replacement if a crack is found, but this AD requires doing the terminating modification specified in paragraph (i) of this AD.

(l) Dassault Service Bulletins F10-294 and F10-297 recommend submitting certain inspection results to the manufacturer. This AD does not require those actions.

Part Installation

(m) As of the effective date of this AD, no person may install on any airplane a drag strut actuator having part number 747721.

Alternative Methods of Compliance (AMOCs)

(n) The Manager, International Branch, ANM-116, Transport Airplane Directorate, FAA, has the authority to approve AMOCs for this AD, if requested in accordance with the procedures found in 14 CFR 39.19.

Related Information

(o) French airworthiness directive 2002-137(B) dated March 20, 2002, also addresses the subject of this AD.

Issued in Renton, Washington, on September 17, 2004.
Kalene C. Yanamura,
Acting Manager, Transport Airplane Directorate, Aircraft Certification Service.

[FR Doc. 04-21643 Filed 9-27-04; 8:45 am]

BILLING CODE 4910-13-P